GENERAL SERVICES ADMINISTRATION

41 CFR Parts 300-3, 301-1, 301-10, 301-11, 301-12, 301-30, 301-31, 301-50, 301-51, 301-52, 301-70, 301-71, 301-72, 301-73, 301-74, 301-75, 302-1, 302-2, 302-3, 302-4, 302-5, 302-7 and 302-16

[FTR Amendment 108]

RIN 3090-AH61

Federal Travel Regulation (FTR); Corrections and Additions

AGENCY: Office of Governmentwide Policy, GSA.

ACTION: Final rule.

SUMMARY: This final rule amends the Federal Travel Regulation (FTR) by clarifying various provisions regarding temporary duty (TDY) travel and relocation allowances and makes certain grammatical corrections where applicable.

EFFECTIVE DATE: This final rule is effective September 13, 2002.

FOR FURTHER INFORMATION CONTACT: Jim Harte, Program Analyst, Office of Transportation and Personal Property at (202) 501-0483. For information pertaining to status or publication schedules, contact the Regulatory Secretariat, Room 4035, GS Bldg., 1800 F Street, NW., Washington, DC 20405, 202-208-7312.

SUPPLEMENTARY INFORMATION:

A. Background

This final rule amends the FTR as follows:

• Corrects inaccurate citations and grammatical inaccuracies.

• Section 300-3.1(v) clarifies the definition of household goods relating to the shipment of boats, removes the 14-foot restriction and allows for a boat (mounted or unmounted on a trailer) of reasonable size that can fit into a van to be included in household goods, and adds a definition for the term “weight additive”.

• Section 300-3.1 adds a definition for the United States.

• Section 301-10.107 clarifies when the use of a non-contract city-pair fare may be used and that employees of the District of Columbia are not entitled to use the contract city-pair fares.

• Section 301-10.124 clarifies that the 14-hour rule for determining when premium class other than first class may be authorized includes change of planes and any en-route stopovers.

• Section 301-10.164 clarifies and permits the use of Amtrak Acela and Metroliner train service and permits the use of business class on Acela and Metroliner train service.

• Section 301-11.11 question and answer revised to require that lodging reservations be made through agencies Travel Management System (TMS).

• Clarifies that lodging taxes in foreign areas (Section 301-11.27) and laundry and dry cleaning expenses (Section 301-11.31) for travel in foreign and non-foreign areas remain part of the per diem rates established by the Department of State and Department of Defense, respectively, and are not considered a separate reimbursable expense for travel to foreign and non-foreign areas.

• Adds new section 301-11.32 allowing for the payment of a lodging expense prior to completion of travel when advance payment is necessary to reserve a room.

• Section 301-12.1 clarifies that energy surcharges and lodging resort fees (when not optional) are considered reimbursable as a miscellaneous travel expense.

• Section 301-50.3 provides that when selecting lodging facilities that first consideration must be given to lodging facilities contracted by GSA under the Federal Premier Lodging Program (FPLP).

• Section 301-51.2 exempts employees who travel 5 times or less a year from the mandatory use of the Government travel charge card, with agency discretion to issue cards to such employees.

• Section 301-52.4 requires that receipts must be retained for 6 years and 3 months.

• Section 301-70.707 provides guidance on what agencies can do to reduce travel charge delinquencies.

• Section 301-73.103 clarifies that a traveler may make lodging accommodations directly with a property for (a) attendance at a conference where a block of rooms has been set aside, and (b) lodging is required outside the continental United States.

• Section 301-74.17 removes the mandatory requirement to contact GSA to obtain meeting or conference space in the District of Columbia.

• Section 302-1.1 clarifies that relocation expenses are allowable for an employee who has completed a prescribed tour of duty and is returning to the place of actual residence for separation from Government service or for reassignment to the same or different Government agency.

• Section 302-3.1 clarifies that the Relocation Income Tax Allowance is not authorized for new appointees by deleting that allowance from the appropriate tables.

• Section 302-5.13 clarifies that the applicable per diem rate for an authorized househunting trip is the locality rate.

• Section 302-7.20 clarifies that when a shipment of household goods (HHG) includes an item (e.g. boat or trailer of reasonable size) for which the HHG carrier assesses a weight additive, and the shipment exceeds the maximum weight allowance, the employee is responsible for all excess charges and any special packing, crating and handling of the weight additive item.

• Section 302-7.200 clarifies that when an employee's HHG is shipped by the Government on a Bill of Lading or other shipping document, the Government is responsible for paying the carrier for that shipment even if the shipment exceeds the 18,000 maximum weight allowance. In such a situation the employee is indebted to the Government and must reimburse the agency for the excess charges involved.

• Section 302-16.1 clarifies that the transportation of cats, dogs and other house pets are included under the Miscellaneous Expense Allowance.

B. Executive Order 12866

The General Services Administration (GSA) has determined that this final rule is not a significant regulatory action for the purposes of Executive Order 12866 of September 30, 1993.

C. Regulatory Flexibility Act

This final rule is not required to be published in the Federal Register for notice and comment; therefore, the Regulatory Flexibility Act does not apply.

D. Paperwork Reduction Act

The Paperwork Reduction Act does not apply because the final rule does not impose recordkeeping or information collection requirements, or the collection of information from offerors, contractors, or members of the public which require the approval of the Office of Management and Budget under 44 U.S.C. 501 et seq.

E. Small Business Regulatory Enforcement Fairness Act

This final rule is also exempt from congressional review under 5 U.S.C. 801 since it relates solely to agency management and personnel.

List of Subjects in 41 CFR Parts 300-3, 301-1, 301-10, 301-11, 301-12, 301-30, 301-31, 301-50, 301-51, 301-52, 301-70, 301-71, 301-72, 301-73, 301-74, 301-75, 302-1, 302-2, 302-3, 302-4, 302-5, 302-7 and 302-16

Government employees, Travel and transportation expenses.

For the reasons set out in the preamble 41 CFR parts 300-3, 301-1, 301-10, 301-11, 301-12, 301-30, 301-31, 301-50, 301-51, 301-52, 301-70, 301-71, 301-72, 301-73, 301-74, 301-75, 302-1, 302-2, 302-3, 302-4, 302-5, 302-7, and 302-16 are amended as set forth below:

1. The authority citation for 41 CFR part 300-3 continues to read as follows:

Authority: 5 U.S.C. 5707; 5 U.S.C. 5738; 5 U.S.C. 5741-5742; 20 U.S.C. 905(a); 31 U.S.C. 1353; 40 U.S.C. 486(c); 49 U.S.C. 40118; E.O. 11609, 3 CFR, 1971-1975 Comp., p. 586.

PART 300-3—GLOSSARY OF TERMS

2. Amend § 300-3.1 by revising paragraph (1)(v) of the definition “Household Goods (HHG)”; adding in alphabetical order, the definition “Household Goods-Weight Additive”; revising the last sentence of the definition of Travel Management System (TMS); and adding in alphabetical order the definition “United States” to read as follows:

§ 300-3.1 What do the following terms mean?

* * * * *

Household Goods (HHG) * * *

(v) Vehicles other than POVs (such as motorcycles, mopeds, jet skies, snowmobiles, golf carts, boats (e.g., boat, sailboat, canoe, skiff, rowboat, dinghies, sculls and kayak, mounted or unmounted on trailers) of reasonable size that can fit into a moving van.

* * * * *

Household Goods-Weight Additive—A weight, per linear foot of a specific item, added to the net weight of the household goods shipment to compensate for the excessive van space used by the item. The item must be stated in the Household Goods tariff as qualifying for a weight additive before a charge can be assessed. Weight additives do not apply if an article is capable of being conveniently hand-carried by one person and/or transported in a standard moving carton.

* * * * *

Travel Management System (TMS)—* * * A TMS may be an in-house system, a commercially available system (e.g., contract travel agency), or an electronically available system that provides such services as booking common carrier, lodging, and car rental reservations and ticketing as specified in 301-73.101 of this subtitle.

United States—The 48 contiguous States, the District of Columbia and the States and areas defined under the term “Non-Foreign Area.”

PART 301-1—APPLICABILITY

3. The authority citation for 41 CFR part 301-1 continues to read as follows:

Authority: 5 U.S.C. 5707.

§ 301-1.1 [Amended]

4. Amend § 301-1.1, in the table, in the first column under the heading “An agency includes”, by removing “5 U.S.C. 101” and inserting “5 U.S.C. 105 (except for Government-Controlled Corporations, i.e. mixed ownership Government Corporation as defined in 31 U.S.C. 9101).”;

PART 301-10—TRANSPORTATION EXPENSES

5. The authority citation for 41 CFR part 301-10 continues to read as follows:

Authority: 5 U.S.C. 5707; 40 U.S.C. 486(c); 49 U.S.C. 40118

6. Revise the introductory paragraph of § 301-10.107 and add notes 1 and 2 at the end of this section to read as follows:

§ 301-10.107 When must I use a contract city-pair fare?

You must always use a contract city-pair fare for scheduled air passenger transportation service, (an Internet list of city-pairs is available at http://pub.fss.gsa.gov/services/citypairs), if you are a civilian employee of an agency (see § 301-1.1 of this chapter), unless one or more of the following conditions exist(s):

* * * * *

Note 1 to § 301-10.107: Employees of the Government of the District of Columbia are not eligible to use the contract city-pair fares, even though they may otherwise be covered by the Federal Travel Regulation.

Note 2 to § 301-10.107: Department of Defense (DoD) groups of 21 or more passengers may request contract service on an optional basis. Contract carriers may, but are not required, to furnish service to such groups.

7. Revise § 301-10.108 to read as follows:

§ 301-10.108 What requirements must be met to use a non-contract fare?

Before purchasing a non-contract fare—

(a) You must—

(1) Meet one of the requirements for exceptions listed in § 301-10.107; and

(2) If the non-contract fare is non-refundable, restricted or has specific eligibility requirements, you must know or reasonably anticipate, based on your planned trip, that you will use the ticket.

(b) Your agency must determine that the proposed non-contract transportation is practical and cost effective for the Government.

8. Revise § 301-10.111 to read as follows:

§ 301-10.111 When may I use a reduced group or charter fare?

You may use a reduced group or charter fare when your agency has determined, on an individual case basis prior to your travel, that use of such a fare is cost effective. Chartered aircraft are subject to the same rules as Government aircraft, and agencies in the executive branch of the Federal Government are subject to the requirements of Office of Management and Budget (OMB) Circular A-126 and 41 CFR part 101-37 in making such cost effectiveness determinations.

9. Revise § 301-10.114 to read as follows:

§ 301-10.114 What must I do with unused Government Transportation Request(s) (GTR(s)), ticket(s) or refund application(s)?

You must submit any unused GTR(s), unused ticket coupons, unused e-tickets, or refund applications to your agency in accordance with your agency's procedures.

10. Revise paragraph (h) of §301-10.124 to read as follows:

§ 301-10.124 When may I use premium-class other than first-class airline accommodations?

* * * * *

(h) Where the origin and/or destination are OCONUS, and the scheduled flight time, including stopovers and change of planes, is in excess of 14 hours. (In this instance you will not be eligible for a rest stop en route or a rest period upon arrival at your duty site.); or

* * * * *

§ 301-10.141 [Amended]

11. Amend §301-10.141 by removing from the first sentence “§ 301-10.143” and adding “§ 301-10.142” in its place.

12. Amend §301-10.160 by adding paragraph (d) to read as follows:

§ 301-10.160 What classes of train accommodations are available?

* * * * *

(d) Business-class—A class of service offered on Amtrak Acela or Metroliner extra fare train service.

13. Amend §301-10.164 to read as follows:

§ 301-10.164 When may I use extra-fare train service?

You may use extra fare train service whenever your agency determines it is more advantageous to the Government or is required for security reasons. The use of the lowest class of service available on any AMTRAK Acela or Metroliner train service (including Acela Express) is deemed advantageous to the Government and no further agency approval is needed. On the Amtrak Acela Express or Metroliner train service, the lowest available class is business and on the Amtrak Regional train service the lowest available class of service is coach. AMTRAK Acela and Metroliner first-class accommodations may be authorized/approved only as provided in § 301-10.162.

14. Amend § 301-10.302, in the table, in the second column under the heading “The distance between your origin and destination is”, by revising the first sentence to read, “As determined from aeronautical charts issued by the Federal Aviation Administration (FAA).”.

15. Amend §301-10.304, by revising the table to read as follows:

§ 301-10.304 What expenses are allowable in addition to the allowances prescribed in §301-10.303?

* * * * *

Reimbursable expenses in addition to mileage allowance | Non-reimbursable expenses included in the mileage allowance
Parking fees; ferry fees; bridge, road, and tunnel fees; and aircraft or airplane parking, landing, and tie-down fees | Charges for repairs, depreciation, replacements, grease, oil, antifreeze, towage and similar speculative expenses, gasoline, insurance, state and Federal taxes.

PART 301-11—PER DIEM EXPENSES

16. The authority citation for 41 CFR part 301-11 continues to read as follows:

Authority: 5 U.S.C. 5707.

17. Revise § 301-11.11 to read as follows:

§ 301-11.11 How do I make my lodging reservations?

You must make your lodging reservations through your agency travel management system as required by part 301-50 of this chapter.

18. Amend § 301-11.26, by revising the table to read as follows:

§ 301-11.26 How do I get a per diem rate increased?

* * * * *

For CONUS locations | For non-foreign area locations | For foreign area locations
General Services Administration, Office of Governmentwide Policy, Attn: Travel Management Division (MTT), Washington, DC 20405 | Department of Defense, Per Diem, Travel and Transportation, Allowance Committee (PDTATAC), Hoffman Building #1, Room 836, 2461 Eisenhower Ave., Alexandria, VA 22331-1300 | Department of State, Director of Allowances, State Annex 29, Room 262, Washington, DC 20522-2902.

19. Amend §301-11.27 by adding three sentences to the end of the paragraph to read as follows:

§ 301-11.27 Are taxes included in the lodging portion of the Government per diem rate?

* * * This section is effective January 1, 1999, for CONUS locations and effective January 1, 2000, for non-foreign areas. For foreign areas, lodging taxes have not been removed from foreign per diem rates established by the Department of State. Separate claims for lodging taxes incurred in foreign areas are not allowed.

20. Amend §301-11.31 by adding two sentences to the end of the paragraph to read as follows:

§ 301-11.31 Are laundry, cleaning and pressing of clothing expenses reimbursable?

* * * Laundry and dry cleaning expenses have not been removed from foreign per diem rates established by the Department of State, or from non-foreign area per diem rates established by the Department of Defense. Separate claims for laundry and dry cleaning expenses incurred in foreign areas and non-foreign areas are not allowed.

21. Add §301-11.32 to read as follows:

§ 301-11.32 May I be reimbursed for an advance room deposit in situations where a lodging facility requires the payment of a deposit, prior to the beginning of my scheduled official travel?

Yes, your agency may reimburse you for an advance room deposit, when such a deposit is required by the lodging facility to secure a room reservation, prior to the beginning of your scheduled official travel. However, if you are reimbursed the advance room deposit, but fail to perform the scheduled official travel for reasons not acceptable to your agency, resulting in forfeit of the deposit, you are indebted to the Government for that amount and must repay it in a manner prescribed by your agency.

PART 301-12—MISCELLANEOUS EXPENSES

22. The authority citation in 41 CFR part 301-12 continues to read as follows:

Authority: 5 U.S.C. 5707.

23. Amend §301-12.1, by adding an entry at the end of the table to read as follows:

§ 301-12.1 What miscellaneous expenses are reimbursable?

* * * * *

General expenses | Fees to obtain money | Special expenses of foreign travel
* * * * * * *
Energy surcharge and lodging resort fee(s) (when such fee(s) is/are not optional). |  |

PART 301-30—EMERGENCY TRAVEL

24. The authority citation in 41 CFR part 301-30 continues to read as follows:

Authority: 5 U.S.C. 5707.

25. Amend §301-30.4 by revising paragraph (b) and adding paragraph (d) as follows:

§ 301-30.4 When an illness or injury occurs on TDY, what expenses may be allowed?

* * * * *

(b) Transportation and per diem expense for travel to an alternate location to receive medical treatment.

* * * * *

(d) Transportation costs of a medically necessary attendant.

PART 301-31—THREATENED LAW ENFORCEMENT/INVESTIGATIVE EMPLOYEES

26. The authority citation in 41 CFR part 301-31 continues to read as follows:

Authority: 5 U.S.C. 5707.

§ 301-31.8 [Amended]

27. Amend §301-31.8 by removing “§” before “301-10”.

PART 301-50—ARRANGING FOR TRAVEL SERVICES

28. The authority citation in 41 CFR part 301-50 continues to read as follows:

Authority: 5 U.S.C. 5707; 40 U.S.C. 486(c).

29. Revise §301-50.3, to read as follows:

§ 301-50.3 Are there any limits on the travel arrangements I may make?

Yes, there are limits on the travel arrangements you may make for common carrier, commercial lodging, and car rental accommodations.

(a) Common carrier accommodations. If your agency is a mandatory user of the GSA city-pair fare contract for air passenger transportation, you must use the contract carrier, unless you have an approved exemption as cited in §§301-10.107 and 301-10.108 of this chapter.

(b) Lodging accommodations. You should always stay in a “fire safe” facility. This is a facility that meets the fire safety requirements of the Hotel and Motel Fire Safety Act of 1990, as amended (see 5 U.S.C. 5707a). When selecting a commercial lodging facility, first consideration must be given to the commercial lodging facilities contracted by GSA under the Federal Premier Lodging Program (FPLP) that meet the fire safety requirements, where available, unless one or more of the following conditions exist. (A list of FPLP facilities may be found at http://policyworks.gov/perdiem). If a FPLP facility is not available in the location you need, your agency's designated TMS must provide you with a list of alternative facilities that meet the fire safe requirements of the Act.

(1) There are no FPLP facilities under contract within a reasonable proximity of your temporary duty location;

(2) There are no vacancies at the available FPLP facilities;

(3) Your agency has other contractual arrangements with commercial lodging facilities that meet the FEMA fire safe requirements;

(4) Your agency determines on a case-by-case basis that it is not practical to use FPLP facilities to meet mission requirements;

(5) You are attending a conference with prearranged lodging accommodations and to ensure that the set aside rooms are used attendees are required to book lodging directly with the lodging facility; or

(6) Your travel is OCONUS.

(c) Rental vehicles. When authorized to use a rental vehicle under § 301-10.450 of this chapter, you must rent a vehicle from a vendor that participates in the Military Traffic Management Command (MTMC) Government Car Rental Agreement, unless you are OCONUS, and no agreement is in place for your TDY location. MTMC has negotiated rental car agreements that include automatic unlimited mileage, collision damage insurance and fixed rates.

PART 301-51—PAYING TRAVEL EXPENSES

30. The authority citation in 41 CFR part 301-51 continues to read as follows:

Authority: 5 U.S.C. 5707, Subpart A is issued under the authority of Sec. 2, Pub. L. 105-264, 112 Stat. 2350 (5 U.S.C. 5701 note); 40 U.S.C. 486(c).

31. Amend §301-51.2 by removing the word “and” at the end of paragraph (j); removing the period at the end of paragraph (k) and inserting a semicolon in its place; removing the period at the end of paragraph (l) and inserting “; and”; in its place; and adding paragraph (m) to read as follows:

§ 301-51.2 What official travel expenses and/or classes of employees are exempt from the mandatory use of the Government contractor-issued travel charge card?

* * * * *

(m) Employees who travel 5 times or less a year. Even though exempt, agencies have the discretion to issue a travel charge card to such an employee.

§ 301-51.101 [Amended]

32. Amend §301-51.101, in the introductory text, by removing “41 CFR 101-41.203-2” and inserting “41 CFR 102-118.50” in its place.

§ 301-51.200 [Amended]

33. Amend in §301-51.200, in paragraph (b) of the first column of the table, under the heading “For”, by removing “i.e.” and inserting “e.g.” in its place.

PART 301-52—CLAIMING REIMBURSEMENT

34. The authority citation in 41 CFR part 301-52 continues to read as follows:

Authority: 5 U.S.C. 5707; 40 U.S.C. 486(c); Sec. 2., Pub. L. 105-264, 112 Stat. 2350 (5 U.S.C. 5701 note).

35. Amend §301-52.4 by removing the word “and” at the end of paragraph (b)(1); removing the period at the end of paragraph (b)(2) and inserting “; and”; and adding paragraph (b)(3) to read as follows:

§ 301-52.4 What must I provide with my travel claim?

* * * * *

(b) * * *

(3) Receipts must be retained for 6 years and 3 months as prescribed by the National Archives and Records Administration (NARA) under General Records Schedule 6, paragraph 1 (http://ardor.nara.gov/grs/grs06.html).

PART 301-70—INTERNAL POLICY AND PROCEDURE REQUIREMENTS

36. The authority citation in 41 CFR part 301-70 continues to read as follows:

Authority: 5 U.S.C. 5707; 40 U.S.C. 486(c); Sec. 2., Pub. L. 105-264, 112 Stat. 2350 (5 U.S.C. 5701 note).

37. Revise §301-70.501 to read as follows:

§ 301-70.501 Does per diem continue when an employee interrupts a travel assignment because of an incapacitating illness or injury?

Yes, when an employee interrupts a travel assignment because of an incapacitating illness or injury and takes leave (annual or sick), per diem will be allowed, not to exceed the maximum rate for the location where the interruption occurs, for a reasonable period, normally not to exceed 14 calendar days (including fractional days) for any one period of absence. You may approve a longer period if justified.

§§ 301-70.502 through 301-70.508 [Redesignated as §§301-70.503 through 301-70.509]

38. Redesignate §§ 301-70.502 through 301-70.508 as §§ 301-70.503 through 301-70.509.

38a. Add a new §301-70.502 to read as follows:

§ 301-70.502 Are there any limitations to the payment of these expenses?

Yes, there are limitations to the payment of these expenses. Per diem is not payable, or if paid, must be collected from the employee when—

(a) The employee is confined to a hospital or medical facility that is within the proximity of the official duty station or that is the same one the employee would have been admitted to if the illness or injury had occurred while at the official duty station; and/or

(b) The Government provides or reimburses the employee for hospitalization under any Federal statute (including hospitalization in a Department of Veterans Affairs (VA) medical center or military hospital) other than 5 U.S.C. 8901-8913 (Federal Employees Health Benefits program).

38b. Revise newly fesignated §301-70.503 to read as follows:

§ 301-70.503 What additional emergency expenses should we allow?

When an employee discontinues a TDY assignment before its completion due to an incapacitating illness or injury, you may pay—

(a) Transportation and per diem expenses for travel to an alternate location to receive medical treatment;

(b) Transportation and per diem expenses to return to the official station; and

(c) Transportation costs of a medically necessary attendant.

39. Add §301-70.708 to read as follows:

§ 301-70.708 What can we do to reduce travel charge card delinquencies?

To reduce travel charge card delinquencies by your employees, you should consider implementing one or more of the following suggestions (this list is not comprehensive; you may adopt other appropriate procedures):

(a) Agency travel program coordinators must be trained and aware of their responsibilities and the delinquency management tools available under your agreement with the travel charge card contractor (internet training is available for the GSA SmartPay(™) Travel Charge Card at: http://fss.gsa.gov/training/transtrav.

(b) Ensure that managers and supervisors are provided monthly delinquency and questionable charges report.

(c) Periodically, but at least once a year, verify that cardholders are still current employees.

(d) For inactive accounts (cards not used within 6 months, one year, etc., reduce card limit to $1, increase dollar limit when necessary.

(e) Work with the charge card contractor to block certain high-risk category codes (e.g. department stores, automobile dealerships, specialty stores), etc.

(f) Review ATM cash withdrawals for reasonableness and association with official travel.

(g) Implement a salary offset program. (See part 301-76 of this chapter).

(h) Implement split disbursement in your travel vouchering system, so that an employee may authorize you to make certain payments directly to the charge card contractor on the employee's behalf.

(i) Refer potential fraud cases to your agency IG for investigation.

(j) For some helpful do's and don'ts for travel cardholders see GSA publication (Card-F001) entitled “But I didn't know * * * —Helpful Hints for Travel Cardholders”. This publication is available on the internet at http://fss.gsa.gov/services/gsa-smartpay, click on GSA SmartPay Agency Information, click on “But I didn't know * * * —Helpful Hints for Travel Cardholders”. You may print or call for telephone numbers listed for copies.

(k) Ensure that employees turn in their travel charge card when they retire or leave the agency.

PART 301-71—AGENCY TRAVEL ACCOUNTABILITY REQUIREMENTS

40. The authority citation for 41 CFR part 301-71 continues to read as follows:

Authority: 5 U.S.C. 5707; 40 U.S.C. 486(c); Sec. 2, Pub. L. 105-264, 112 Stat. 2350 (5 U.S.C. 5701 note).

§§ 301-71.301 through 301-71.308 [Redesignated as §§301-71.302 through 301-71.309]

41. Redesignate §§301-71.301 through 301-71.308 as §§301-71.302 through 301-71.309.

41a. Add a new §301-71.301 to read as follows:

§ 301-71.301 In situations where a lodging facility requires the payment of a deposit, may we reimburse an employee for an advance room deposit prior to the beginning of scheduled official travel?

Yes, you may reimburse an employee an advance room deposit, when such a deposit is required by the lodging facility to secure a room reservation, prior to the beginning of an employee's scheduled official travel. However, if the employee is reimbursed the advance room deposit, but fails to perform the scheduled official travel for reasons not acceptable to the agency, resulting in the forfeit of the deposit, the employee is indebted to the Government and must repay that amount in a timely manner as prescribed by you.

PART 301-72—AGENCY RESPONSIBILITIES RELATED TO COMMON CARRIER TRANSPORTATION

42. The authority citation for 41 CFR part 301-72 continues to read as follows:

Authority: 5 U.S.C. 5707; 31 U.S.C. 3726; 40 U.S.C. 486.

43. Amend §301-72.301 by revising paragraphs (a) and (c) to read as follows:

§ 301-72.301 How do we process unused, partially used, and exchanged tickets?

(a) For unused or partially used tickets purchased with GTRs: You must obtain the unused or partially used ticket from the traveler, issue Standard Form 1170 (SF 1170) “Redemption of Unused Ticket” to the airline and or travel agency that issued the ticket, maintain a suspense file to monitor the airline/travel agency refund, and record and deposit the airline/travel agency refund upon receipt. See 41 CFR 102-118.145 and the U.S. Government Passenger Transportation Handbook (http://fss.gsa.gov/transtrav/usgpth.pdf) for policies and procedures regarding the use of SF 1170.

* * * * *

(c) For exchanged tickets purchased with GTRs: You must obtain the airline/travel agency refund application or receipt from the traveler, and maintain a suspense file to monitor the airline/travel agency refund. For additional guidance see 41 CFR 102-118.145 and the U.S. Government Passenger Transportation Handbook (http://fss.gsa.gov/transtrav/usgpth.pdf).

* * * * *

PART 301-73—TRAVEL PROGRAMS

44. The authority citation for 41 CFR part 301-73 continues to read as follows:

Authority: 5 U.S.C. 5707; 40 U.S.C. 486(c).

45. Revise §301-73.102 to read as follows:

§ 301-73.102 Must we require travelers to use a travel management system?

Yes, you must use a TMS selected by you for all common carrier, lodging, and car rental accommodations to ensure compliance with the Hotel and Motel Fire Safety Act of 1990, as amended (see 5 U.S.C. 5707a). A TMS, as defined in § 300-3.1 of this chapter, provides the services required by § 301-73.101 of this part. You must require that travelers use the TMS selected by you to make common carrier, lodging, and car rental reservations, unless an exemption is granted under § 301-73.103 of this part.

46. Revise §301-73.103 to read as follows:

§ 301-73.103 Are there any exceptions to this requirement?

Yes, exceptions to this requirement may be made as follows:

(a) An agency head, or his/her designee, may exempt certain types of travel arrangements from the mandatory use of the TMS. In certain situations, it may be impractical to make advance reservations, and therefore no reason exists to use a TMS.

(b) Attending a conference where the conference sponsor has negotiated with one or more lodging facilities to set aside a specific number of rooms for conference attendees. To ensure that the set aside rooms are used attendees are required to book lodging directly with the lodging facility.

(c) When lodging accommodations are required for travel OCONUS.

Note to § 301-73.103: Agencies may have preexisting contractual arrangements with a TMS, which require use of a TMS even though the FTR does not. Agencies must alert their employees to any such requirements.

PART 301-74—CONFERENCE PLANNING

47. The authority citation for 41 CFR part 301-74 continues to read as follows:

Authority: 5 U.S.C. 5707.

48. Amend §301-74.17 by revising paragraph (b) to read as follows:

§ 301-74.17 What special rules apply when a conference is held in the District of Columbia?

* * * * *

(b) It is no longer mandatory that you contact GSA for meeting or conference facilities in the District of Columbia. However, you are encouraged to contact the GSA Public Buildings Service (PBS) of the National Capital Region to inquire about the availability of short-term conference and meeting facilities in the District of Columbia. For additional information see the Customer Desk Guide for Real Property Management, Chapter 1. The Customer Desk Guide can be found on the worldwide web at http://www.gsa.gov/attachments/GSA_PUBLICATIONS/pub/CustomerGuidebookmarkedversion.pdf.

* * * * *

PART 301-75—PRE-EMPLOYMENT INTERVIEW TRAVEL

49. The authority citation for 41 CFR part 301-75 continues to read as follows:

Authority: 5 U.S.C. 5707.

§ 301-75.202 [Amended]

50. Amend §301-75.202, in the table, in the second column under the heading “You will inform the traveler”, by removing from the second sentence, “41 CFR 101-41.210” and inserting “U.S. Government Passenger Transportation Handbook (http://fss.gsa.gov/transtrav/usgpth.pdf)” in its place.

PART 302-1—GENERAL RULES

51. The authority citation for 41 CFR part 302-1 continues to read as follows:

Authority: 5 U.S.C. 5738; 20 U.S.C. 905(a).35.

52. Amend §302-1.1 by revising paragraph (e) to read as follows:

§ 302-1.1 Who is eligible for relocation expense allowances under this chapter?

* * * * *

(e) An employee returning to his/her place of residence after completion of a prescribed tour of duty for the purposes of separation from Government service or separation from the overseas assignment for reassignment to the same or different Government agency.

* * * * *

53. Amend §302-1.2 by revising paragraph (d) to read as follows:

§ 302-1.2 Who is not eligible for relocation expense allowances under this chapter?

* * * * *

(d) An employee of the Department of Veterans Affairs (VA) to whom 38 U.S.C. 235 applies; or

* * * * *

PART 302-2—EMPLOYEES ELIGIBILITY REQUIREMENTS

54. The authority citation for 41 CFR part 302-2 is revised to read as follows:

Authority: 5 U.S.C. 5738; 20 U.S.C. 905(a).

55. Amend §302-2.3 by revising the last sentence to read as follows:

§ 302-2.3 What determines my entitlements and allowances for relocation?

* * * However, this does not change the requirement that all aspects of a relocation must be completed by the time specified in §§302-2.7 through 30-2.11.

PART 302-3—RELOCATION ALLOWANCE BY SPECIFIC TYPE

56. The authority citation for 41 CFR part 302-3 is revised to read as follows:

Authority: 5 U.S.C. 5738; 20 U.S.C. 905(a).

57. Amend §302-3.2 in Table A, column 1, by removing Item 6, and by revising Table B to read as follows:

Table B.—Assigned to First Official Station Outside the Continental United States (OCONUS)
Column 1—Relocation allowances that agency must pay or reimburse | Column 2—Relocation allowances that agency has discretionary authority to pay or reimburse
1. Transportation of employee & immediate family member(s) (part 302-4 of this chapter) | 1. Shipment of privately owned vehicle (POV) (part 302-9 of this chapter).
2. Per diem employee only (part 302-4) | 2. Temporary quarters subsistence expense (TQSE) is not authorized in a foreign area; however, you may be entitled to the following under the Department of State Standardized Regulations (Government Civilians-Foreign Areas) which is available from the Superintendent of Documents, Washington, DC 20402.
| (a) Foreign Transfer Allowance (FTA) (Subsistence Expense) for quarters occupied temporarily before departure from the 50 states or the District of Columbia for a official station in a foreign area incident to a permanent change of station and travel to first official station overseas.
| (b) Temporary quarters subsistence allowance ((TQSA) when a transfer is authorized to a foreign area.
| (c) The miscellaneous expense portion of the FTA is authorized incident to first official station travel to a foreign area.
3. Transportation & temporary storage of household goods (part 302-7 of this chapter) | 3. Use of relocation service companies only when transfer is to Alaska or Hawaii (part 302-12 of this chapter).
4. Extended storage of household goods (part 302-8 of this chapter) | 4. Home marketing incentives only when transfer is to a non-foreign OCONUS area (part 302-15 of this chapter).

§ 302-3.101 [Amended]

58. Amend §302-3.101 by revising Table A, column 2, entry “4” to read: “4. Use of a relocation services company.”; and amending Table B, column 2, entry “5”, by removing “302-15” and adding “301-15” in its place.

PART 302-4—ALLOWANCES FOR SUBSISTENCE AND TRANSPORTATION

59. The authority citation for 41 CFR part 302-4 continues to read as follows:

Authority: 5 U.S.C. 5738; 20 U.S.C. 905(a); E.O. 11609; 36 FR 13747; 3 CFR, 1971-1973, Comp., p. 586.

60. Revise §302-4.200 to read as follows:

§ 302-4.200 What per diem rate will I receive for en route relocation travel within CONUS?

Your per diem for en route relocation travel between your old and new official stations will be at the standard CONUS rate (see Appendix A of chapter 301). You will be reimbursed in accordance with §§ 301-11.100 and 301-11.102 of this title.

PART 302-5—ALLOWANCE FOR HOUSEHUNTING TRIP EXPENSES

61. The authority citation for 41 CFR part 302-5 is revised to read as follows:

Authority: 5 U.S.C. 5738; 20 U.S.C. 905(a); E.O. 11609, 36 FR 13747, 3 CFR 1971-1973 Comp., p. 586.

§ 302-5.13 [Amended]

62. Amend § 302-5.13, in the table, in the second column under the heading “You are reimbursed”, in paragraph (a), by removing “ part 302-4, subpart C of this chapter; or” and inserting “§§ 301-11.100 through 301-11.102 of this chapter 301; or”.

§ 302-5.15 [Amended]

63. Amend § 302-5.15 by removing from the first sentence “301-11.3(c) of this title” and adding “301-11.25, 301-11.306 and 301-52.4(b) of chapter 301”; and by removing from the last sentence “and, 301-11.3(c) of this title” and adding “301-11.25, 301-11.306 and 301-52.4(b) of chapter 301”.

PART 302-7—TRANSPORTATION AND TEMPORARY STORAGE OF HOUSEHOLD GOODS AND PROFESSIONAL BOOKS, PAPERS, AND EQUIPMENT (PBP&E)

64. The authority citation for 41 CFR part 302-7 continues to read as follows:

Authority: 5 U.S.C. 5738; 20 U.S.C. 905(a); E.O. 11609; 36 FR 13747, 3 CFR 1971-1973 Comp., p. 586.

65. Add §302-7.20 to read as follows:

§ 302-7.20 If my HHG shipment includes an item (e.g. boat, trailer, ultralight vehicle) for which a weight additive is assessed by the HHG carrier, am I responsible for payment?

If your HHG shipment includes an item (e.g. boat or trailer of reasonable size) for which a weight additive is assessed by the HHG carrier (as prescribed in applicable tariffs), and your shipment exceeds the maximum weight prescribed in § 302-7.2, you are responsible for all excess charges and any special packing, crating, and handling of the weight additive item. See § 302-7.200 on how charges are paid and who makes the shipping arrangements.

66. Amend § 302-7.200 by adding a new sentence to the end of the section to read as follows:

§ 302-7.200 How are charges paid and who makes the arrangements for transporting HHG, PBP&E and temporary storage under the actual expense method?

* * * If the shipment exceeds the maximum weight prescribed in § 302-7.2, the Government will pay the total charges and the employee will reimburse the Government for the cost of transportation and other charges applicable to the excess weight.

PART 302-16—ALLOWANCES FOR MISCELLANEOUS EXPENSES

§ 302-16.1 [Amended]

67. The authority citation for 41 CFR part 302-16 is revised to read as follows:

Authority: 5 U.S.C. 5738; 20 U.S.C. 905(a); E.O. 11609, 36 FR 13747, 3 CFR 1971-1973 Comp., p.586.

§ 302-16.1 [Amended]

68. Amend §302-16.1, in the table in paragraph (b), under the heading “Fees/Deposits”, by revising the first sentence of the last entry to read “Only costs associated with dogs, cats and other house pets are included.”

Dated: August 23, 2002.
Stephen A. Perry,
Administer of General Services.

[FR Doc. 02-22414 Filed 9-12-02; 8:45 am]

BILLING CODE 6820-14-P